DEPARTMENT OF COMMERCE

National Oceanic and Atmospheric Administration

RIN 0648-XG815

Meeting of the Advisory Committee to the United States Delegation to the International Commission for the Conservation of Atlantic Tunas

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its annual spring meeting to be held April 15-16, 2019.

DATES: The open sessions of the Committee meeting will be held on April 15, 2019, 9 a.m. to 4:15 p.m. and April 16, 2019, 10 a.m. to 4 p.m. Closed sessions will be held on April 15, 2019, 4:15 p.m. to 6 p.m., and on April 16, 2019, 8 a.m. to 10 a.m.

ADDRESSES: The meeting will be held at the DoubleTree by Hilton Hotel Miami Airport & Convention Center, 711 NW 72nd Avenue, Miami, Florida 33126.

FOR FURTHER INFORMATION CONTACT: Terra Lederhouse at (301) 427-8360.

SUPPLEMENTARY INFORMATION: The Advisory Committee to the U.S. Section to ICCAT will meet in open session to receive and discuss information on management strategy evaluation and harvest control rule development at ICCAT; the 2018 ICCAT meeting results and U.S. implementation of ICCAT decisions; NMFS research and monitoring activities; global and domestic initiatives related to ICCAT; the results of the meetings of the Committee's Species Working Groups; and other matters relating to the international management of ICCAT species. The public will have access to the open sessions of the meeting, but there will be no opportunity for public comment. The agenda is available from the Committee's Executive Secretary upon request (see FOR FURTHER INFORMATION CONTACT).

The Committee will meet in its Species Working Groups for part of the afternoon of April 15, 2019, and for two hours on the morning of April 16, 2019. These sessions are not open to the public, but the results of the Species Working Group discussions will be reported to the full Advisory Committee during the Committee's open session on April 16, 2019.

Special Accommodations

The meeting location is physically accessible to people with disabilities. Requests for sign language interpretation or other auxiliary aids should be directed to Terra Lederhouse at (301) 427-8360 at least 5 days prior to the meeting date.

Dated: March 20, 2019.
Paul N. Doremus,
Acting Director, Office of International Affairs and Seafood Inspection, National Marine Fisheries Service.

[FR Doc. 2019-05827 Filed 3-26-19; 8:45 am]

BILLING CODE 3510-22-P